DEPARTMENT OF COMMERCE

International Trade Administration

[A-580-809]

Circular Welded Non-Alloy Steel Pipe From the Republic of Korea: Amended Final Results of Antidumping Duty Administrative Review; 2012-2013

AGENCY: Enforcement and Compliance, International Trade Administration, Department of Commerce.

SUMMARY: The Department of Commerce (the Department) is amending the final results of the administrative review of the antidumping duty order on circular welded non-alloy steel pipe (CWP) from the Republic of Korea (Korea) to correct a ministerial error.¹ The period of review is November 1, 2012, through October 31, 2013.

¹ See Circular Welded Non-Alloy Steel Pipe From the Republic of Korea: Final Results of Antidumping Duty Administrative Review; 2012-2013, 80 FR 32937 (June 10, 2015) (Final Results) and accompanying Issues and Decision Memorandum.

DATES: Effective date: July 17, 2015.

FOR FURTHER INFORMATION CONTACT: Joseph Shuler or Jennifer Meek, AD/CVD Operations, Office I, Enforcement and Compliance, International Trade Administration, U.S. Department of Commerce, 14th Street and Constitution Avenue NW., Washington DC 20230; telephone (202) 482-1293 or (202) 482-2778, respectively.

Background

On June 5, 2015, the Department disclosed to interested parties its calculations for the Final Results.² On June 10, 2015, we received a timely ministerial error allegation from domestic interested parties (Allied Tube & Conduit and TMK IPSCO) regarding the Department's margin calculation for Hyundai HYSCO (HYSCO).³

² See “Final Results Calculation Memorandum for Hyundai HYSCO,” dated June 3, 2015.

³ See “Circular Welded Non-Alloy Steel Pipe from Korea: Ministerial Error Comments,” dated June 10, 2015.

Scope of the Order

The merchandise subject to the order is circular welded non-alloy steel pipe and tube. The product is currently classified under the following Harmonized Tariff Schedule of the United States (HTSUS) subheadings: 7306.30.10.00, 7306.30.50.25, 7306.30.50.32, 7306.30.50.40, 7306.30.50.55, 7306.30.50.85, and 7306.30.50.90. Although the HTSUS numbers are provided for convenience and customs purposes, the written product description remains dispositive.⁴

⁴ For a complete description of the scope of the order, see the Issues and Decision Memorandum accompanying the Final Results.

Ministerial Error

Section 751(h) of the Tariff Act of 1930, as amended (“the Act”), and 19 CFR 351.224(f) define a “ministerial error” as an error “in addition, subtraction, or other arithmetic function, clerical error resulting from inaccurate copying, duplication, or the like, and any similar type of unintentional error which the Secretary considers ministerial.” We analyzed the ministerial error allegation and determined, in accordance with section 751(h) of the Act and 19 CFR 351.224(e), that we made a ministerial error in our calculation of HYSCO's margin for the Final Results by inadvertently excluding from the comparison market program certain of HYSCO's home market sales observations.

In accordance with section 751(h) of the Act and 19 CFR 351.224(e), we are amending the Final Results with respect to HYSCO.⁵ The revised weighted-average dumping margin for HYSCO is detailed below.

⁵ See Memorandum from Joseph Shuler, International Trade Analyst, to James Maeder, Senior Director, Office I, “Ministerial Error Allegation in the 2012-2013 Administrative Review of the Antidumping Duty Order on Circular Welded Non-Alloy Steel Pipe from Republic of Korea.”

Amended Final Results

As a result of correcting this ministerial error, we determine that the following weighted-average dumping margin exists for the period November 1, 2012, through October 31, 2013:

Producer/exporter | Weighted-average dumping margin (percent)
Hyundai HYSCO | 0.81

Assessment Rates

Pursuant to section 751(a)(2)(A) and (C) of the Act, and 19 CFR 351.212(b)(1), the Department has determined, and U.S. Customs and Border Protection (CBP) shall assess, antidumping duties on all appropriate entries of subject merchandise in accordance with the final results of this review. The Department intends to issue assessment instructions to CBP 15 days after the date of publication of these amended final results of review.

For assessment purposes, HYSCO reported the name of the importer of record and the entered value for all of their sales to the United States during the period of review (POR). Accordingly, we calculated importer-specific ad valorem antidumping duty assessment rates on the basis of the ratio of the total amount of dumping calculated for the importer's examined sales and the total entered value of those same sales in accordance with 19 CFR 351.212(b)(1). Where an importer-specific assessment rate is zero or de minimis (i.e., less than 0.5 percent), we will instruct CBP to liquidate the appropriate entries without regard to antidumping duties in accordance with 19 CFR 351.106(c)(2).

For entries of subject merchandise during the POR produced by HYSCO for which it did not know were destined for the United States, we will instruct CBP to liquidate unreviewed entries at the all-others rate if there is no rate for the intermediate company or companies involved in the transaction. For a full discussion of this clarification, see Antidumping and Countervailing Duty Proceedings: Assessment of Antidumping Duties, 68 FR 23954 (May 6, 2003).

Cash Deposit Requirements

The following cash deposit requirements will be effective upon publication of the notice of amended final results of administrative review for all shipments of subject merchandise entered or withdrawn from warehouse, for consumption, on or after the date of publication as provided by section 751(a)(2)(C) of the Act: (1) The cash deposit rate for HYSCO will be equal to the respective weighted-average dumping margin established in the final results of this review; (2) for merchandise exported by manufacturers or exporters not covered in this review but covered in a prior segment of the proceeding, the cash deposit rate will continue to be the company-specific rate published for the most recently completed segment of this proceeding in which that manufacturer or exporter participated; (3) if the exporter is not a firm covered in this review, a prior review, or the original investigation but the manufacturer is, the cash deposit rate will be the rate established for the most recently completed segment of this proceeding for the manufacturer of subject merchandise; and (4) the cash deposit rate for all other manufacturers or exporters will continue to be 4.80 percent, the “all others” rate established pursuant to a court decision.⁶ These cash deposit requirements, when imposed, shall remain in effect until further notice.

⁶ See Circular Welded Non-Alloy Steel Pipe From Korea: Notice of Final Court Decision and Amended Final Determination, 60 FR 55833 (November 3, 1995).

Notification to Importers Regarding the Reimbursement of Duties

This notice serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

Notification Regarding Administrative Protective Order

This notice also serves as a reminder to parties subject to administrative protective order (APO) of their responsibility concerning the disposition of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Disclosure

We will disclose the calculations used in our analysis to parties to these proceedings within five days of the date of publication of this notice pursuant to 19 CFR 351.224(b).

These amended final results of administrative review are issued and published in accordance with sections 751(h) and 777(i)(1) of the Actand 19 CFR 351.224(f).

Dated: July 10, 2015.
Paul Piquado,
Assistant Secretary for Enforcement and Compliance.

[FR Doc. 2015-17622 Filed 7-16-15; 8:45 am]

BILLING CODE 3510-DS-P